DEPARTMENT OF THE INTERIOR

Fish and Wildlife Service

Notice of Availability of an Environmental Assessment/Habitat Conservation Plan for a Portion of the Cibolo Canyon Property (Master Phase II), Bexar County, TX

AGENCY: U.S. Fish and Wildlife Service, Interior.

ACTION: Notice of availability and 60-day public comment period.

SUMMARY: The Applicant, Lumberman's Investment Corporation (LIC), has applied for an incidental take permit (TE-102437-0) pursuant to Section 10(a) of the Endangered Species Act of 1973, as amended (Act). The requested permit would authorize incidental take of the endangered golden-cheeked warbler. The proposed take would occur as a result of the construction and operation of a mixed-use community, including hotel-resort, golf, commercial, and residential development in the City of San Antonio, Bexar County, Texas.

DATES: To ensure consideration, written comments must be received on or before July 1, 2005.

ADDRESSES: Persons wishing to review the application may obtain a copy by writing to the Regional Director, U.S. Fish and Wildlife Service, P.O. Box 1306, Room 4102, Albuquerque, New Mexico 87103. Persons wishing to review the EA/HCP may obtain a copy by written or telephone request to Dawn Whitehead, U.S. Fish and Wildlife Service, Ecological Services Office, 10711 Burnet Road, Suite 200, Austin, Texas 78758 (512/490-0057). Documents will be available for public inspection by written request or by appointment only during normal business hours (8 a.m. to 4:30 p.m.) at the U.S. Fish and Wildlife Service Office, Ecological Services Office, 10711 Burnet Road, Suite 200, Austin, Texas 78758. Data or comments concerning the application and EA/HCP should be submitted in writing to the Field Supervisor, U.S. Fish and Wildlife Service Office, Austin, Texas at the above address. Please refer to permit number TE-102437-0 when submitting comments.

FOR FURTHER INFORMATION CONTACT: Dawn Whitehead, Ecological Services Office, 10711 Burnet Road, Suite 200, Austin, Texas 78758 (512/490-0057).

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

The Service has prepared the Environmental Assessment/Habitat Conservation Plan (EA/HCP) for the incidental take application. A determination of jeopardy to the species or a Finding of No Significant Impact will not be made until at least 60 days from the date of publication of this notice. This notice is provided pursuant to section 10(c) of the Act and National Environmental Policy Act regulations (40 CFR 1506.6).

Applicants: As part of the preferred alternative, LIC has developed an HCP that specifies what steps the Applicant will take to avoid, minimize, and mitigate the potential impacts to the golden-cheeked warbler associated with development, construction, and occupation of the Master Phase II, Bexar County, Texas, to the greatest extent practicable.

The preferred alternative is the issuance of a permit under section 10(a)(1)(B) of the Act to authorize the potential incidental take of the golden-cheeked warbler within the 1,609 acre permit area. The requested term of the permit is 30 years. Mitigation efforts under the proposed HCP would include, among other things, the perpetual dedication and management of approximately 760 acres (307.6 hectares) of the 1,609-acre permit area as a preserve for the golden-cheeked warbler. These 760 acres are considered to be the highest quality warbler habitat on the property. Much of this area is adjacent to a 331 acre (134 hectares) block of contiguous warbler habitat that has been preserved in perpetuity for the golden-cheeked warbler under a separate consultation with the Service. The proposed preserve system is also adjacent to an even larger block of privately-owned potential warbler habitat to the east, most of which is considered relatively un-developable due to topographic and other constraints.

Three other alternatives to this action were rejected because the environmental impacts would be greater than, or similar to, the proposed action, but would not provide as great a conservation benefit as the proposed action, and/or were not economically viable.

Background: LIC owns approximately 2,855 acres (1160 hectares) of property proposed for a mixed-use community that includes hotel-resort, golf, commercial, and residential development. The property is bordered to the south by Evans Road and to the west by Bulverde Road in the City of San Antonio, Bexar County, Texas. The 2,855 acres is comprised of three separately purchased tracts: the Evans Road Tract (1,812 acres (733.3 hectares) acquired in 1986); the Wolverton Tract (785 acres (317.7 hectares) acquired in 2000); and the nearby, but not contiguous, North Triangle Tract (258 acres (104.4 hectares) acquired in 2001). The combination of these three tracts is now called the Cibolo Canyon Property. The Cibolo Canyon Property was divided into two development phases: Master Phase I and Master Phase II. Master Phase I is located in the southern and western sections of the Cibolo Canyon Property and totals approximately 1,230 acres (497.8 hectares). Based upon available information, LIC determined there would be no impacts to threatened or endangered species that would occur as a result of developing Master Phase I and therefore elected not to pursue additional coverage under the Endangered Species Act. Master Phase II is located in the northern and eastern section of the Cibolo Canyon Property and totals approximately 1,609 acres (651 hectares). The requested section 10(a)(1)(B) permit will cover impacts to the Golden-cheeked Warbler associated with Master Phase II only.

Bryan Arroyo,
Acting Regional Director, Region 2, Albuquerque, New Mexico.

[FR Doc. 05-8648 Filed 4-29-05; 8:45 am]

BILLING CODE 4510-55-P